DEPARTMENT OF THE INTERIOR

National Park Service

[NPS-WASO-WM-PSB-20543; PPWOWMADH2, PPMPSAS1Y.YH0000 (166)]

Proposed Information Collection; National Park Service Background Initiation Request Form

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before May 31, 2016.

ADDRESSES: Send your comments on the IC to Madonna L. Baucum, Information Collection Clearance Officer, National Park Service, 12201 Sunrise Valley Drive (Room 2C114, Mail Stop 242), Reston, VA 20192 (mail); or madonna_baucum@nps.gov (email). Please include “1024—New Background Initiation Request Forms” in the subject line of your comments.

FOR FURTHER INFORMATION CONTACT: To request additional information about this IC, contact Shean Rheams, National Park Service, 1201 Eye Street NW., Washington, DC 20005 (mail); or shean_rheames@nps.gov (email).

SUPPLEMENTARY INFORMATION:

I. Abstract

The NPS, as delegated by the U.S. Office of Personnel Management (OPM), is authorized to request information to determine suitability of applicants for Federal employment and proposed non-Federal personnel working under contractor and/or agreement who require access to NPS property and/or receive a DOIAccess (personal identity verification (PIV)) badge under Executive Orders 10450 and 10577; sections 3301, 3302, and 9101 of Title 5, United States Code (U.S.C.); and parts 2, 5, 731, and 736 of Title 5, Code of Federal Regulations (CFR), and Federal information processing standards. Section 1104 of Title 5 allows OPM to delegate personnel management functions to other Federal agencies.

In line with new regulations mandated by the OPM and the Department of the Interior (DOI), the NPS Personnel Security Branch is utilizing the Electronic Questionnaires for Investigations Processing (E-QIP) System. As a result, electronic submission of the Standard Form 85, for suitability background investigations (NACI), or the Standard Form 85P, for Public Trust, is now required. The DOI and NPS requires all applicants for Federal employment and non-Federal personnel (contractors, partners, etc.) requiring access to NPS property and/or receive a DOIAccess PIV badge to be processed for a suitability background investigation, in accordance with Executive Order 10450 and the Homeland Security Presidential Directive (HSPD-12).

The National Park Service will utilize Form 10-955, “Background Initiation Request” to create E-QIP accounts necessary to initiate background investigations for all individuals requiring access to NPS property and/or receive a DOIAccess (personal identity verification (PIV)) badge. The OPM and DOI programs initiating background investigations have published notices in the Federal Register describing the systems of records (SORN) in which the records will be maintained.

The information collected via NPS Form 10-955 includes detailed information for each proposed candidate requiring a background clearance, to include:

• Full legal name;

• Social Security Number;

• Date and Place of Birth;

• Country of Citizenship;

• Contact Phone Number;

• Email Address;

• Home Address;

• Whether proposed candidate has ever been investigated by another Federal agency; and

• If they were investigated by another Federal agency, they must provide the name of that agency and the date of the investigation.

Additional information required on Form 10-956 for proposed contractors, partners, and other non-Federal candidates includes:

• Name of Proposed Candidate's Company;

• Contract/Agreement Number; and

• Contract/Agreement Periods of Performance.

II. Data

OMB Control Number: 1024—New.

Title: National Park Service Background Initiation Request Form.

Service Form Number(s): NPS Form 10-955, “Background Initiation Request”.

Type of Request: New.

Description of Respondents: Candidates for Federal employment, as well as contractors, partners, and other non-Federal candidates proposed to work for the NPS under a Federal contract or agreement who require access to NPS property and/or a DOIAccess (PIV) badge.

Respondent's Obligation: Mandatory.

Frequency of Collection: On occasion.

Estimated Number of Responses: 1,200.

Estimated Completion Time per Response: 3 minutes.

Estimated Total Annual Burden Hours: 60.

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: March 28, 2016.
Madonna L. Baucum,
Information Collection Clearance Officer, National Park Service.

[FR Doc. 2016-07387 Filed 3-31-16; 8:45 am]

BILLING CODE 4310-EH-P